DEPARTMENT OF TRANSPORTATION

Federal Aviation Administration

14 CFR Part 39

[Docket No. FAA-2021-0383; Project Identifier 2018-SW-005-AD]

RIN 2120-AA64

Airworthiness Directives; Leonardo S.p.a. Helicopters

AGENCY: Federal Aviation Administration (FAA), DOT.

ACTION: Notice of proposed rulemaking (NPRM).

SUMMARY: The FAA proposes to adopt a new airworthiness directive (AD) for certain Leonardo S.p.a. Model AW189 helicopters. This proposed AD was prompted by corrosion on the inlet check valve banjo fitting of emergency flotation system (EFS) float assemblies. This proposed AD would require visually inspecting each banjo fitting installed on an affected EFS float assembly, and depending on the results, removing the banjo fitting from service. This proposed AD would also require applying corrosion inhibiting compound to each banjo fitting installed on an affected EFS float assembly and prohibit installing an affected EFS float assembly unless the banjo fitting inspection, banjo fitting replacement, and corrosion inhibiting compound application requirements have been accomplished as specified in a European Aviation Safety Agency (now European Union Aviation Safety Agency) (EASA) AD, which is proposed for incorporation by reference (IBR). The FAA is proposing this AD to address the unsafe condition on these products.

DATES: The FAA must receive comments on this proposed AD by July 12, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material that is proposed for IBR in this AD, contact EASA, Konrad-Adenauer-Ufer 3, 50668 Cologne, Germany; telephone +49 221 8999 000; email ADs@easa.europa.eu; internet www.easa.europa.eu. You may find this IBR material on the EASA website at https://ad.easa.europa.eu. For Aero Sekur and Leonardo Helicopters service information identified in this NPRM, contact Leonardo S.p.A. Helicopters, Emanuele Bufano, Head of Airworthiness, Viale G.Agusta 520, 21017 C.Costa di Samarate (Va) Italy; telephone +39-0331-225074; fax +39-0331-229046; or at https://www.leonardocompany.com/en/home. You may view the Aero Sekur, EASA, and Leonardo Helicopters material at the FAA, Office of the Regional Counsel, Southwest Region, 10101 Hillwood Pkwy., Room 6N-321, Fort Worth, TX 76177. For information on the availability of the Aero Sekur, EASA, and Leonardo Helicopters material at the FAA, call (817) 222-5110. The EASA material is also available at https://www.regulations.gov by searching for and locating Docket No. FAA-2021-0383.

Examining the AD Docket

You may examine the AD docket at https://www.regulations.gov by searching for and locating Docket No. FAA-2021-0383; or in person at Docket Operations between 9 a.m. and 5 p.m., Monday through Friday, except Federal holidays. The AD docket contains this NPRM, the EASA AD, any comments received, and other information. The street address for Docket Operations is listed above.

FOR FURTHER INFORMATION CONTACT: Kristi Bradley, Aerospace Engineer, General Aviation & Rotorcraft Section, International Validation Branch, FAA, 10101 Hillwood Pkwy., Fort Worth, TX 76177; telephone (817) 222-5110; email kristin.bradley@faa.gov.

SUPPLEMENTARY INFORMATION:

Comments Invited

The FAA invites you to send any written relevant data, views, or arguments about this proposal. Send your comments to an address listed under ADDRESSES. Include “Docket No. FAA-2021-0383; Project Identifier 2018-SW-005-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kristi Bradley, Aerospace Engineer, General Aviation & Rotorcraft Section, International Validation Branch, FAA, 10101 Hillwood Pkwy., Fort Worth, TX 76177; telephone (817) 222-5110; email kristin.bradley@faa.gov. Any commentary that the FAA receives that is not specifically designated as CBI will be placed in the public docket for this rulemaking.

Background

EASA, which is the Technical Agent for the Member States of the European Union, has issued a series of ADs, the most recent being EASA AD 2018-0006, dated January 10, 2018 (EASA AD 2018-0006), to correct an unsafe condition for Leonardo S.p.A. Helicopters (formerly Finmeccanica S.p.A., AgustaWestland S.p.A.) Model AW189 helicopters with certain part-numbered and serial-numbered Aero Sekur EFS float assemblies installed, except those float assemblies marked with SB-189-25-004. EASA initially issued EASA AD 2017-0256, dated December 22, 2017 (EASA AD 2017-0256), to address the unsafe condition. EASA issued EASA AD 2018-0006 to supersede EASA AD 2017-0256 to revise the compliance time based on the EFS float assembly condition.

This proposed AD was prompted by corrosion on the inlet check valve banjo fitting of EFS float assemblies. The FAA is proposing this AD to prevent reduced inflation of an EFS float, which if not addressed, could affect the helicopter's buoyancy during an emergency landing on water. See EASA AD 2018-0006 for additional background information.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of the same type design.

Related Service Information Under 1 CFR Part 51

EASA AD 2018-0006 requires visually inspecting the banjo fittings installed on an affected EFS float assembly. If there is corrosion on a banjo fitting, EASA AD 2018-0006 requires replacing the banjo fitting. EASA AD 2018-0006 also requires applying corrosion inhibiting compound to each banjo fitting installed on an affected EFS float assembly. EASA AD 2018-0006 prohibits installing an affected EFS float assembly unless the banjo fitting inspection, banjo fitting replacement, and corrosion inhibiting compound application requirements have been accomplished. EASA AD 2018-0006 also allows credit for actions accomplished previously with a prior revision of the Leonardo Helicopters service information.

This material is reasonably available because the interested parties have access to it through their normal course of business or by the means identified in the ADDRESSES section.

Other Related Service Information

The FAA reviewed Leonardo Helicopters Alert Service Bulletin No. 189-174, original issue, dated December 22, 2017 (ASB 189-174 original issue), and Revision A, dated January 5, 2018 (ASB 189-174 Rev A). The FAA also reviewed Aero Sekur Service Bulletin SB-189-25-004, original issue, dated November 22, 2017 (SB-189-25-004), which is attached as Annex A to ASB 189-174 original issue and ASB 189-174 Rev A.

ASB 189-174 Rev A and ASB 189-174 original issue specify the same procedures, except the compliance time specified by ASB 189-174 Rev A has been revised by adding affected EFS float assemblies that have been inspected by procedures in the maintenance manual within the previous 12 months. ASB 189-174 original issue and ASB 189-174 Rev A specify accomplishing the Visual Inspection and Corrosion Prevention, and Record Instruction procedures specified in SB-189-25-004. ASB 189-174 original issue and ASB 189-174 Rev A also specify emailing photographical evidence of each corroded banjo fitting to Leonardo Helicopters PSE Division and returning replaced banjo fittings to Leonardo Helicopters Customer Support Division.

SB-189-25-004 specifies procedures for cleaning and visually inspecting each banjo fitting for evidence of corrosion. If there is corrosion, SB-189-25-004 specifies procedures for discarding the banjo fitting and its O-rings, and installing a new banjo fitting. SB-189-25-004 also specifies procedures for applying corrosion inhibiting compound (JC5A or Mastinox 6856) on all banjo fittings. When SB-189-25-004 is accomplished, SB-189-25-004 specifies procedures for marking the identification label of the EFS float assembly.

Proposed AD Requirements in This NPRM

This proposed AD would require accomplishing the actions specified in EASA AD 2018-0006, described previously, as incorporated by reference, except for any differences identified as exceptions in the regulatory text of this proposed AD and except as discussed under “Differences Between this Proposed AD and the EASA AD.

Explanation of Required Compliance Information

In the FAA's ongoing efforts to improve the efficiency of the AD process, the FAA developed a process to use certain civil aviation authority (CAA) ADs as the primary source of information for compliance with requirements for corresponding FAA ADs. The FAA has been coordinating this process with manufacturers and CAAs. As a result, EASA AD 2018-0006 will be incorporated by reference in the FAA final rule. This proposed AD would, therefore, require compliance with EASA AD 2018-0006 in its entirety, through that incorporation, except for any differences identified as exceptions in the regulatory text of this proposed AD. Using common terms that are the same as the heading of a particular section in EASA AD 2018-0006 does not mean that operators need comply only with that section. For example, where the AD requirement refers to “all required actions and compliance times,” compliance with this AD requirement is not limited to the section titled “Required Action(s) and Compliance Time(s)” in EASA AD 2018-0006. Service information specified in EASA AD 2018-0006 that is required for compliance with it will be available at https://www.regulations.gov by searching for and locating Docket No. FAA-2021-0383 after the FAA final rule is published.

Differences Between This Proposed AD and the EASA AD

EASA AD 2018-0006 requires returning and discarding certain parts, whereas this proposed AD would require removing those parts from service instead.

Costs of Compliance

The FAA estimates that this AD, if adopted as proposed, would affect 4 helicopters of U.S. Registry. Labor rates are estimated at $85 per work-hour. Based on these numbers, the FAA estimates the following costs to comply with this proposed AD.

Inspecting the banjo fittings would take about 8.5 work-hours for an estimated cost of $723 per helicopter and $2,892 for the U.S. fleet. Applying corrosion inhibiting compound would take about 1.5 work-hours for an estimated cost of $128 per helicopter and $512 for the U.S. fleet. If required, replacing a banjo fitting would take a minimal additional amount of time after inspecting it and parts would cost about $550 for an estimated cost of $550 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Leonardo S.p.a.: Docket No. FAA-2021-0383; Project Identifier 2018-SW-005-AD.

(a) Comments Due Date

The FAA must receive comments on this airworthiness directive (AD) by July 12, 2021.

(b) Affected ADs

None.

(c) Applicability

This AD applies to Leonardo S.p.a. Model AW189 helicopters, certificated in any category, as identified in European Aviation Safety Agency (now European Union Aviation Safety Agency) (EASA) AD 2018-0006, dated January 10, 2018 (EASA AD 2018-0006).

(d) Subject

Joint Aircraft Service Component (JASC) Code: 3212, Emergency Flotation Section.

(e) Unsafe Condition

This AD was prompted by corrosion on the inlet check valve banjo fitting of emergency flotation system (EFS) float assemblies. The FAA is issuing this AD to prevent reduced inflation of an EFS float. The unsafe condition, if not addressed, could affect the helicopter's buoyancy during an emergency landing on water.

(f) Compliance

Comply with this AD within the compliance times specified, unless already done.

(g) Requirements

Except as specified in paragraph (h) of this AD: Comply with all required actions and compliance times specified in, and in accordance with, EASA AD 2018-0006.

(h) Exceptions to EASA AD 2018-0006

(1) Where EASA AD 2018-0006 refers to December 29, 2017 (the effective date of EASA AD 2017-0256, dated December 22, 2017), this AD requires using the effective date of this AD.

(2) Where the service information referenced in EASA AD 2018-0006 specifies to return a certain part, this AD requires removing that part from service.

(3) Where the service information referenced in EASA AD 2018-0006 specifies to discard certain parts, this AD requires removing those parts from service.

(4) The “Remarks” section of EASA AD 2018-0006 does not apply to this AD.

(i) No Reporting Requirement

Although the service information referenced in EASA AD 2018-0006 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(2) of this AD. Information may be emailed to: 9-AVS-AIR-730-AMOC@faa.gov.

(2) Before using any approved AMOC, notify your appropriate principal inspector, or lacking a principal inspector, the manager of the local flight standards district office/certificate holding district office.

(k) Related Information

(1) For EASA AD 2018-0006, contact EASA, Konrad-Adenauer-Ufer 3, 50668 Cologne, Germany; telephone +49 221 8999 000; email ADs@easa.europa.eu; internet www.easa.europa.eu. You may view this material at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2021-0383.

(2) For more information about this AD, contact Kristi Bradley, Aerospace Engineer, General Aviation & Rotorcraft Section, International Validation Branch, FAA, 10101 Hillwood Pkwy., Fort Worth, TX 76177; telephone (817) 222-5110; email kristin.bradley@faa.gov.

Issued on May 21, 2021.
Lance T. Gant,
Director, Compliance & Airworthiness Division, Aircraft Certification Service.

[FR Doc. 2021-11198 Filed 5-27-21; 8:45 am]

BILLING CODE 4910-13-P